DEPARTMENT OF HEALTH AND HUMAN SERVICES

Health Resources AND Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2014, through July 31, 2014. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: August 19, 2014.
Mary K. Wakefield,
Administrator.

List of Petitions Filed

1. Monica Lynn Brooks and William Jake Brooks on behalf of C. B.,Tacoma, Washington, Court of Federal Claims No: 14-0563V

2. Joseph J. Kraus, Kirkland, Washington, Court of Federal Claims No: 14-0568V

3. Phillip Ferguson, Orlando, Florida, Court of Federal Claims No: 14-0571V

4. Cara Brockway on behalf of Hayley Brockway, Marquette, Michigan, Court of Federal Claims No: 14-0572V

5. Penny Rackley, Aurora, Colorado, Court of Federal Claims No: 14-0573V

6. Linda Cothern, Cedar Grove, Wisconsin, Court of Federal Claims No: 14-0574V

7. Gregory Smith, San Leandro, California, Court of Federal Claims No: 14-0576V

8. Gillian Sears, Newcastle, Wyoming, Court of Federal Claims No: 14-0578V

9. Susan Antti on behalf of K. A., Washington, District of Columbia, Court of Federal Claims No: 14-0579V

10. Holly Lasnetski, St. Cloud, Minnesota, Court of Federal Claims No: 14-0580V

11. Ashley Burkart, Benton, Wisconsin, Court of Federal Claims No: 14-0581V

12. Michelle Pond Byars and David Brian Byars on behalf of N. M. M. B., Birmingham, Alabama, Court of Federal Claims No: 14-0583V

13. Jennifer Hoffman and Kevin M. Hoffman on behalf of I. J. H., Pittsburgh, Pennsylvania, Court of Federal Claims No: 14-0584V

14. Deborah N. Cooper, Charlotte, North Carolina, Court of Federal Claims No: 14-0585V

15. Amanda Williams, Conway, Arkansas, Court of Federal Claims No: 14-0591V

16. David Duncan, Christiansburg, Virginia, Court of Federal Claims No: 14-0592V

17. Truong Nguyen on behalf of T. A. N., Orlando, Florida, Court of Federal Claims No: 14-0593V

18. Eric Dubay, Lewiston, Maine, Court of Federal Claims No: 14-0604V

19. Evangelina Avila, Napa, California, Court of Federal Claims No: 14-0605V

20. Leslie Hao on behalf of K. H., McLean, Virginia, Court of Federal Claims No: 14-0606V

21. Nanci Brill, Louisville, Kentucky, Court of Federal Claims No: 14-0607V

22. Christopher Sherman, Boston, Massachusetts, Court of Federal Claims No: 14-0608V

23. Harold Paddlety, Whiteriver, Arizona, Court of Federal Claims No: 14-0609V

24. William Gould, Springfield, Pennsylvania, Court of Federal Claims No: 14-0613V

25. James Mather on behalf of G. L. M., Burton, Michigan, Court of Federal Claims No: 14-0614V

26. Andreas Smirniotis and Angela Smirniotis on behalf of E. S., New York, New York, Court of Federal Claims No: 14-0617V

27. Corinna Carlson on behalf of P. C. B., Atlanta, Georgia, Court of Federal Claims No: 14-0623V

28. Christine L. Tishmack, Bismarck, North Dakota, Court of Federal Claims No: 14-0624V

29. Jessica Ploughe on behalf of Sarah Ploughe, Linwood, New Jersey, Court of Federal Claims No: 14-0626V

30. Matthew Cole, Northlake, Illinois, Court of Federal Claims No: 14-0628V

31. Imrana Mumtaz, Kirkland, Washington, Court of Federal Claims No: 14-0629V

32. Gerald Binkley, Seattle, Washington, Court of Federal Claims No: 14-0630V

33. Richard G. Hoffman, Tukwila, Washington, Court of Federal Claims No: 14-0631V

34. Linda Haft, Lexington, Kentucky, Court of Federal Claims No: 14-0635V

35. Douglas Rettman, Oldsmar, Florida, Court of Federal Claims No: 14-0636V

36. Janet Hoehner, Centerville, Ohio, Court of Federal Claims No: 14-0637V

37. Eric Papenfuss, San Diego, California, Court of Federal Claims No: 14-0638V

38. Mario LePore, Baltimore, Maryland, Court of Federal Claims No: 14-0640V

39. Dipak Choksi, Edison, New Jersey, Court of Federal Claims No: 14-0641V

40. Samuel Johnson, Overland Park, Kansas, Court of Federal Claims No: 14-0642V

41. Darrell Maukonen, The Villages, Florida, Court of Federal Claims No: 14-0648V

42. John Poh, Bainbridge Island, Washington, Court of Federal Claims No: 14-0649V

43. Ashley M. Pietro, Linwood, New Jersey, Court of Federal Claims No: 14-0652V

44. June Reed on behalf of M. C., Shreveport, Louisiana, Court of Federal Claims No: 14-0653V

45. Karen Woolley, Buena Vista, California, Court of Federal Claims No: 14-0654V

46. George Seaberg and Darla Seaberg on behalf of Calan Seaberg, Dallas, Texas, Court of Federal Claims No: 14-0655V

47. Stephanie Kuhn on behalf of L. K., Augusta, Georgia, Court of Federal Claims No: 14-0656V

48. Carrie Hodkinson and Chad Hodkinson on behalf of E. H., New York, New York, Court of Federal Claims No: 14-0660V

49. Patricia Elliott, Groveland, California, Court of Federal Claims No: 14-0661V

50. Gretchen Brady Ebright, Hummelstown, Pennsylvania, Court of Federal Claims No: 14-0662V

51. Carl Silvestri and Susan Silvestri on behalf of S. S., Boston, Massachusetts, Court of Federal Claims No: 14-0666V

52. Jane Goering, Boston, Massachusetts, Court of Federal Claims No: 14-0667V

53. Aimee Deak, Boston, Massachusetts, Court of Federal Claims No: 14-0668V

54. Gaines Hearns, Birmingham, Alabama, Court of Federal Claims No: 14-0669V

55. Larry Scott Pearce, Boston, Massachusetts, Court of Federal Claims No: 14-0670V

56. Lindsey Pelton on behalf of Nickson Law Pelton, Southeast Conyers, Georgia, Court of Federal Claims No: 14-0674V

57. Holly Brannigan on behalf of K. B., Piermont, New York, Court of Federal Claims No: 14-0675V

58. Charles Storey, Eugene, Oregon, Court of Federal Claims No: 14-0676V

59. Eddie David Dukes, Summerville, South Carolina, Court of Federal Claims No: 14-0677V

60. Shirley Darlene Pardue, Chattanooga, Tennessee, Court of Federal Claims No: 14-0678V

61. Cynthia Rae Torres, Dodge City, Kansas, Court of Federal Claims No: 14-0679V

62. Edward Anthony, Dickinson, Texas, Court of Federal Claims No: 14-0680V

63. Thomas M. Tafoya on behalf of R. T., Deceased, Rio Rancho, New Mexico, Court of Federal Claims No: 14-0683V

64. Darren Rose and Heejin Jinny Rose on behalf of K. R., Tenafly, New Jersey, Court of Federal Claims No: 14-0684V

65. Shirley F. Crookshanks, Richmond, Virginia, Court of Federal Claims No: 14-0685V

66. Marta Garcia, New York, New York, Court of Federal Claims No: 14-0688V

[FR Doc. 2014-20310 Filed 8-25-14; 8:45 am]

BILLING CODE 4165-15-P